DEPARTMENT OF COMMERCE

International Trade Administration

[A-570-831]

Fresh Garlic From the People's Republic of China: Notice of Extension of Time Limit for the Preliminary Results of Antidumping Duty Administrative and New Shipper Reviews

AGENCY: Import Administration, International Trade Administration, Department of Commerce.

ACTION: Notice of extension of time limit for the preliminary results of antidumping duty administrative and new shipper reviews.

SUMMARY: The Department of Commerce is extending the time limit for the preliminary results of the administrative and new shipper reviews of the antidumping duty order on fresh garlic from the People's Republic of China until December 1, 2003. This extension applies to the administrative review of four exporters, Jinan Yipin Corporation, Ltd., Shandong Heze International Trade and Developing Company, Top Pearl Ltd., and Wo Hing (H.K.) Trading Co., and the new shipper reviews of two exporters, Jining Trans-High Trading Company and Zhengzhou Harmoni Spice Co., Ltd. The period of review is November 1, 2001, through October 31, 2002.

EFFECTIVE DATE: October 23, 2003.

FOR FURTHER INFORMATION CONTACT: Jennifer Moats or Minoo Hatten, AD/CVD Enforcement 3, Import Administration, International Trade Administration, U.S. Department of Commerce, 14th Street and Constitution Avenue, NW., Washington, DC 20230; telephone: (202) 482-5047 and (202) 482-1690, respectively.

Background

On December 26, 2002, the Department of Commerce (the Department) published the Notice of Initiation of Antidumping and Countervailing Duty Administrative Reviews (67 FR 78772), in which it initiated an administrative review of the antidumping duty order on fresh garlic from the People's Republic of China. On January 6, 2003, the Department published the Notice of Initiation of New Shipper Antidumping Duty Reviews: Fresh Garlic from the People's Republic of China (68 FR 542), in which it initiated new shipper reviews for three companies. On March 10, 2003, we aligned the new shipper reviews with the administrative review pursuant to 19 CFR 351.214(j)(3). As such, the time limits for the new shipper reviews were aligned with those for the administrative review. See memorandum to the File from Jennifer Moats entitled “Request for Alignment of Annual and New Shipper Reviews,” dated March 10, 2003. On July 31, 2003, we issued a notice partially rescinding the administrative review covering sales made during the period by Clipper Manufacturing Ltd., Fook Huat Tong Kee Pte., Ltd., Huaiyang Hongda Dehydrated Vegetable Company, Golden Light Trading Company, Ltd., Good Fate International, Philo-Sino International Trading Inc., and Mai Xuan Fruitex Co., Ltd. On August 7, 2003, we extended the deadline for issuance of the preliminary results by 90 days, until October 31, 2003 (68 FR 47020). On September 26, 2003, we issued the preliminary results for the new shipper review of Xiangcheng Yisheng Foodstuffs Co., Ltd., one of the three companies listed in our January 6, 2003, notice of initiation of new shipper antidumping duty reviews.

Extension of Time Limit for Preliminary Results of Administrative and New Shipper Reviews

Section 751(a)(3)(A) of the Tariff Act of 1930, as amended (the Act), provides that the Department will issue the preliminary results of an administrative review of an antidumping duty order within 245 days after the last day of the anniversary month of the date of publication of the order. The Act provides further that the Department may extend that 245-day period to 365 days if it determines it is not practicable to complete the review within the foregoing time period. Section 751(a)(2)(B)(iv) of the Act also provides that we may extend the deadlines in a new shipper review period if we determine that the case is extraordinarily complicated.

The Department has determined that the aligned administrative review and new shipper reviews of Jinan Yipin Corporation Ltd., Shandong Heze International Trade and Developing Company, Jining Trans-High Trading Company, and Zhengzhou Harmoni Spice Co., Ltd., are extraordinarily complicated and that it is not practicable to complete the preliminary results by the partially extended deadline of October 31, 2003. There are a number of complex factual and legal questions related to the calculation of the antidumping margins in the administrative review and new shipper reviews, in particular the analysis of the bona fides of certain sales at issue and the valuation of the factors of production. We require additional time to address these matters through the gathering and verification of certain information.

Therefore, in accordance with sections 751(a)(2)(B)(iv) and 751(a)(3)(A) of the Act, the Department is extending the time limit for the preliminary results by an additional 30 days, until no later than December 1, 2003.¹

¹ A 30-day extension of the current deadline for the preliminary results of review would fall on November 30, 2003, which is a Sunday. Therefore, the new deadline for the preliminary results is the following business day.

Dated: October 17, 2003.
Jeffrey May,
Deputy Assistant Secretary for AD/CVD Enforcement I.

[FR Doc. 03-26798 Filed 10-22-03; 8:45 am]

BILLING CODE 3510-DS-P